DEPARTMENT OF HOMELAND SECURITY

[Docket No. USCG-2012-0098]

Towing Safety Advisory Committee; Meeting

AGENCY: Coast Guard, DHS.

ACTION: Notice of Federal Advisory Committee Meeting.

SUMMARY: The Towing Safety Advisory Committee (TSAC) will meet March 20 and 21, 2012. On March 20, the committee will meet to discuss administrative matters then recess for the meeting of the Towing Vessel Inspection Work Group. The committee will reconvene on March 21, 2012. The meeting of the TSAC on both days and the meeting of the working group are open to the public.

DATES: March 20, 2012, noon to 5 p.m. The TSAC will meet to discuss administrative matters then recess for the meeting of the Towing Vessel Inspection Work Group. March 21, 2012, the TSAC will reconvene 8:30 a.m. to 4:30 p.m. Please note that these meetings may close early if the committee has completed its business. Written comments must be submitted no later than March 15, 2012.

ADDRESSES: The meetings will be held at the Houston Marriott South at Hobby Airport, 9100 Gulf Freeway; Houston TX 77017. Hotel Web site: http://www.marriott.com/hotels/travel/houhh-houston-hobby-airport-marriott/.

To facilitate public participation, we are inviting public comment on the issues to be considered by the committee. Written comments must be identified by Docket No. USCG-2012-0098 and submitted by one of the following methods:

• Federal Rulemaking Portal: http://www.regulations.gov. Follow the instructions for submitting comments.

• Mail: Mail: Docket Management Facility (M-30), U.S. Department of Transportation, West Building Ground Floor, Room W12-140, 1200 New Jersey Avenue SE., Washington, DC 20590- 0001. We encourage use of electronic submissions because security screening may delay the delivery of mail.

• Fax: 202-493-2251.

• Hand delivery: Same as mail address above, between 9 a.m. and 5 p.m., Monday through Friday, except Federal holidays. The telephone number is 202-366-9329.

• To avoid duplication, please use only one of these methods. For instructions on submitting comments, see the “Public Participation and Request for Comments” portion of the SUPPLEMENTARY INFORMATION section below.

Written comments received will be posted without alteration at http://www.regulations.gov, including any personal information provided. Anyone can search the electronic form of comments received into the docket by the name of the individual submitting the comment (or signing the comment, if submitted on behalf of an association, business, labor union, etc.). You may review a Privacy Act notice regarding our public dockets in the January 17, 2008, issue of the Federal Register (73 FR 3316). For access to the docket to read background documents or comments received in response to this notice, go to http://www.regulations.gov, insert USCG-2012-0098 in the Keyword ID box, press Enter, and then click on the item you are interested in viewing.

FOR FURTHER INFORMATION CONTACT: CDR Rob Smith, Designated Federal Officer (DFO) or Mr. Patrick Mannion, Alternate Designated Federal Officer (ADFO), TSAC; U.S. Coast Guard Headquarters, CG-5222, Vessel and Facilities Operating Standards Division; telephone (202) 372-1439, fax (202) 372-1926, or email at: Patrick.J.Mannion@USCG.MIL.

SUPPLEMENTARY INFORMATION: Notice of this meeting is given under the Federal Advisory Committee Act, 5 U.S.C. App. (Pub. L. 92-463) as amended (FACA). This Committee is established in accordance with and operates under the provisions of the FACA. It was established under the authority of 33 U.S.C. 1231a and advises, consults with, and makes recommendations to the Secretary of the Department of Homeland Security (DHS) on matters relating to shallow-draft inland and coastal waterway navigation and towing safety. TSAC may complete specific assignments such as studies, inquiries, workshops, and fact finding in consultation with individuals and groups in the private sector and/or with state and local government jurisdictions in compliance with FACA.

Agenda

March 20, 2012, noon to 5 p.m. The TSAC will meet to discuss administrative matters such as introduction of new members, committee procedures, travel claim processing, and review committee bylaws. The TSAC will then recess and the Towing Vessel Inspection Workgroup will meet to discuss work remaining on that task statement.

March 21, 2012, 8:30 a.m., the TSAC will reconvene. Over the past two years, the committee worked on issues related to and provided recommendations to the Coast Guard regarding an Inspection of Towing Vessels rulemaking. With the publication of the Inspection of Towing Vessels notice of proposed rulemaking (76 FR 49976, August 11, 2011), the committee is transitioning to new tasking focused on the challenges, hazards, and other issues directly related to the towing vessel industry. The committee will review and discuss relevant task statements, receive briefings to inform their work on the issues, review and discuss the information and data presented, and recommend a plan of work to address these new tasks. Presentations and discussions will include the following subjects:

• Presentation on “Towing Vessel Stability Casualty Data” and discussion of the task “Towing Vessel Stability;”

• Presentation on “Towing Vessel Crewmember Competencies” and discussion of the task “Towing Vessel Crewmember Competencies;”

• Presentation on “Falls Overboard” and discussion of the task “Prevention of Falls Overboard, Towing Vessels;”

• Informational briefing on recent activities within the Stability, Load Lines and Fishing Vessels' Safety (SLF) Sub-Committee at International Maritime Organization related to stability standards for anchor handling tugs, towing vessels, and vessels engaged in lifting activities;

• Presentation on “EPA Vessel General Permit;”

• Presentation on “Towing Vessel Bridging Program, Transition to Phase II;”

• Presentation on “Moving machinery hazards;”

• Presentation on “Coast Guard oversight of fire suppression servicing entities;”

• Discussion of the “Ballast Water Task Statement;”

• Discussion on the task “Towing Vessel Inspection.” (Task Statement 04-03);

• Report from the Commanding Officer of the National Maritime Center.

Public Comment Period

An opportunity for oral comments by the public will be provided during the meeting on March 21, 2012, as the final agenda item. Speakers are requested to limit their comments to 5 minutes. Please note that the public oral comment period may end before 4:30 p.m. if all of those wishing to comment have done so.

Services for Individuals With Disabilities

For information on facilities or services for individuals with disabilities or to request special assistance at the public meeting, contact Mr. Patrick Mannion at the telephone number or email address indicated under the FOR FURTHER INFORMATION CONTACT section of this notice.

Minutes

Minutes from the meeting will be available for the public to review within 30 days following the close of the meeting and can be accessed from the Coast Guard Homeport Web site http://homeport.uscg.mil or the online docket for this notice.

Dated: February 28, 2012.
F.J. Sturm,
Deputy Director of Commercial Regulations and Standards.

[FR Doc. 2012-5143 Filed 3-1-12; 8:45 am]

BILLING CODE 9110-04-P